DEPARTMENT OF COMMERCE

U.S. Census Bureau

Agency Information Collection Activities; Submission to the Office of Management and Budget (OMB) for Review and Approval; Comment Request; 2020 Public Use Microdata Areas Program

AGENCY: U.S. Census Bureau, Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed new information collection of the 2020 Public Use Microdata Areas Program, prior to the submission of the information collection request (ICR) to OMB for approval.

DATES: To ensure consideration, comments regarding this proposed information collection must be received on or before September 4, 2020.

ADDRESSES: Interested persons are invited to submit written comments by email to robin.a.pennington@census.gov. Please reference “2020 Public Use Microdata Areas Program” in the subject line of your comments. You may also submit comments, identified by Docket Number USBC-2020-0015, to the Federal e-Rulemaking Portal: http://www.regulations.gov. All comments received are part of the public record. No comments will be posted to http://www.regulations.gov for public viewing until after the comment period has closed. Comments will generally be posted without change. All personally identifiable information (for example, name and address) voluntarily submitted by the commenter may be publicly accessible. Do not submit confidential business information or otherwise sensitive or protected information. You may submit attachments to electronic comments in Microsoft Word, Excel, or Adobe PDF file formats.

FOR FURTHER INFORMATION CONTACT: Requests for additional information or specific questions related to collection activities should be directed to Robin A. Pennington, Decennial Census Management Division, Program Management Office, by phone at 301-763-8132 or by email to robin.a.pennington@census.gov.

SUPPLEMENTARY INFORMATION:

I. Abstract

Public Use Microdata Areas, or PUMAs, are nonoverlapping, statistical geographic areas that partition each state or equivalent entity into geographic areas containing no fewer than 100,000 people each. They cover the entirety of the United States, Puerto Rico, Guam, and the U.S. Virgin Islands. The Census Bureau defines PUMAs for the tabulation and dissemination of Public Use Microdata Sample (PUMS) data. Additionally, the American Community Survey and Puerto Rico Community Survey use them to disseminate their respective period estimates.

The Census Bureau invites State Data Centers from each state, the District of Columbia, and Puerto Rico to delineate PUMAs. States or equivalent entities with less than 200,000 people (e.g., Guam and U.S. Virgin Islands) are not eligible to participate because their populations do not meet the minimum threshold to delineate more than one PUMA. The Census Bureau provides a 90-day review period for State Data Centers to prepare their 2020 PUMA submission.

The Census Bureau asks State Data Centers to involve interested data users, such as those in tribal, state, and local (e.g., county, incorporated place, and town/township) governments, as well as regional planning agencies or organizations to ensure that the PUMAs meet the needs of a variety of data users. Collaboration between State Data Centers and other interested data users is especially important for areas with population exceeding 100,000. The Geographic Update Partnership Software (GUPS), required for use in 2020 PUMA delineation, allows for the sharing of work performed by multiple participants to facilitate a collaborative effort. Though collaboration is encouraged, the State Data Centers are the official participants for this program and must coordinate the delineation work suggested or prepared from others. The Census Bureau only accepts PUMA delineations from each state's respective state data center.

The Census Bureau will provide an overview of the 2020 PUMA and will present the proposed criteria and guidelines of PUMAs to the State Data Centers during the Census Advisory Committee meeting scheduled for the fall of 2020. The proposal will be available on the PUMA website by the end of the calendar year. The State Data Centers and the public may provide comments on the proposal through February 2021. The Census Bureau will resolve and respond to comments received on the proposal prior to posting the final 2020 PUMA criteria and guidelines on the PUMA website later in the spring of 2021. To prepare suitable delineations, State Data Centers must ensure the final criteria and guidelines are implemented.

After the Census Advisory Committee meeting, the Census Bureau will contact the State Data Centers by phone to establish a 2020 PUMA point of contact and gather their contact information (e.g., phone number and email address). The point of contact will receive an email notification officially announcing the program in September 2021. This email will include the notification of the availability of the 2020 PUMA materials (criteria, instructions, software, etc.) on the PUMA website. The Census Bureau will conduct follow-up by phone to the point of contact to confirm receipt of the email notification, awareness of the material availability, and to reinforce the 90-day review period for the 2020 PUMA.

The Census Bureau will produce a detailed set of instructions for using GUPS and provide other historical and resource reference materials on the PUMA website. Once the program is underway, the Census Bureau plans to conduct two online webinar trainings and an in-person training to support PUMA delineation.

II. Method of Collection

The State Data Centers (and other interested data users, if applicable) will download GUPS from the PUMA website and install the software locally on their computers to perform their work. No other method of collection for PUMA delineation is available.

State Data Centers will use the Census Bureau's Secure Web Incoming Module (SWIM) to submit their PUMAs to the Census Bureau for processing once they complete their delineation in GUPS. Verification, or creation, of a SWIM account occurs during the phone follow-up made to the point of contact after the program notification email. Other than to converse by phone or email regarding issues with the submission, there are no plans for formal feedback to State Data Centers.

Final 2020 PUMAs and their associated PUMS data will be available online for use beginning in summer of 2022.

III. Data

OMB Control Number: 0607-XXXX.

Form Number(s): None.

Type of Review: Regular submission, New Information Collection Request.

Affected Public: State Data Centers in the 50 states, District of Columbia, and Puerto Rico.

Estimated Number of Respondents: Maximum is 52.

Estimated Time Per Response: Varies by state, but on average, estimate 40 hours.

Estimated Total Annual Burden Hours: 2,080.

Estimated Total Annual Cost to Public: $0. (This is not the cost of respondents' time, but the indirect costs respondents may incur for such things as purchases of specialized software or hardware needed to report, or expenditures for accounting or records maintenance services required specifically by the collection.)

Respondent's Obligation: Voluntary.

Legal Authority: Title 13 U.S.C. Section 6.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-14411 Filed 7-2-20; 8:45 am]

BILLING CODE 3510-07-P